DEPARTMENT OF HEALTH AND HUMAN SERVICES

Centers for Disease Control and Prevention

[60Day-07-07BG]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Crime Prevention Through Environmental Design: Linking Observed School Environments with Student and School-wide Experiences of Violence and Fear—New—National Center for Injury Prevention (NCIPC), Centers for Disease Control and Prevention (CDC).

Background and Brief Description

Among the goals of the Centers for Disease Control and Prevention (CDC), National Center for Injury Prevention (NCIPC) and Control is to reduce the prevalence of violence among youth. Several important priorities included in the Center's published research agenda focus on studying how physical environments influence behavior and risk for violence. The CDC has developed a tool called the Crime Prevention Through Environmental Design (CPTED) School Assessment (CSA) to assess the extent to which the physical characteristics of schools are consistent with Crime Prevention Through Environmental Design (CPTED) principles.

The proposed research will allow us to determine the validity of the CSA by examining the extent to which the CSA subscales, total CSA scores, and CPTED principles are related to typical variables related to fear and violence. If the CSA tool is shown to measure characteristics of the school environment that are associated with fear and violence-related behaviors in school, then it may be used as the basis for research, design, and evaluation of interventions for schools seeking to prevent or reduce the occurrence of crime and violence by providing information related to (re)designing physical features of the environment and changing policies and procedures related to using the school environment.

In addition, an exploratory purpose of this research is to determine whether the CSA items can be divided reliably into supposedly distinct variables reflecting each of the CPTED principles. If we produce practical support for the assessment of these “CPTED variables,” then we will also assess validity by determining whether these variables are logically related to our measures of fear, violence and climate in schools.

Survey data from one counselor and 75 students (25 each from 6th, 7th, and 8th grades) will be collected from 50 middle schools in metro-Atlanta, Georgia area (a total of approximately 50 counselor participants and 3,750 student participants), in addition to the observational (CSA) data collection. The counselor and student survey will assess variables such as school climate, actual and perceived levels of school violence at each school. In addition, archival/administrative data will be collected from each of the 50 schools providing information on neighborhood and school characteristics from various sources (e.g., school data reported by the school on a “School Profile” form, school district data available on the web, U.S. Census data, and the FBI National Crime and Victimization Survey).

There are no costs to respondents except for their time to participate in the surveys.

Estimated Annualized Burden Hours
Form name | Number of respondents | Number of responses per respondent | Average burden response (in hours) | Total burden (in hours)
Student Survey | 3,750 | 1 | 40/60 | 2,500
Counselor Survey | 50 | 1 | 40/60 | 33
School Profile | 50 | 1 | 120/60 | 100
Total |  |  |  | 2,633

DATE: July 2, 2007.
Maryam I. Daneshvar,
Acting Reports Clearance Officer Centers for Disease Control and Prevention.

[FR Doc. E7-13197 Filed 7-6-07; 8:45 am]

BILLING CODE 4163-18-P